DEPARTMENT OF STATE

[Public Notice 10897]

Notice of Public Meeting of the U.S. President's Emergency Plan for AIDS Relief (PEPFAR) Scientific Advisory Board

In accordance with the Federal Advisory Committee Act (FACA), the PEPFAR Scientific Advisory Board (hereinafter referred to as “the Board”) will meet on Wednesday, October 16, 2019 at the offices of the U.S. Global AIDS Coordinator and Health Diplomacy located at 1800 G St. NW, Suite 10-300, Washington, DC 20006. The meeting is expected to run from 8:30 a.m. until 5:30 p.m. and is open to the public.

The Board is established under the general authority of the Secretary of State and the Department of State (“the Department”) as set forth in Title 22 of the United States Code, in particular Section 2656 of that Title, and consistent with the Federal Advisory Committee Act, as amended (5 U.S.C. Appendix).

The meeting will be hosted by U.S. Global AIDS Coordinator, Ambassador-at-Large Deborah Birx, M.D., who leads the coordination and implementation of PEPFAR, and the Board Chair, Dr. Carlos del Rio. The Board serves the U.S. Global AIDS Coordinator in a solely advisory capacity concerning scientific, implementation, and policy issues related to the U.S. response to HIV/AIDS globally. These issues evolve and are of concern as they influence the priorities and direction of PEPFAR, the content of national and international strategies for program implementation, and the role of PEPFAR in international discourse regarding an appropriate and resourced response and we advance towards epidemic control of HIV/AIDS. Topics for the October 16 meeting will include a report out from an expert working group on the use of HIV recency testing; updates on PEPFAR 2019 programmatic activities; updates on next-generation HIV biomedical prevention; updates on universal test and treat; and a risk/benefit discussion of the transition to dolutegravir based ART regimens.

The public may attend this meeting as capacity allows. Admittance to the meeting will be by means of a pre-arranged clearance list. In order to be placed on the list and, if applicable, to request reasonable accommodation, please register online via the following: https://forms.gle/vrD4HgcbLQ7aiq4p6 no later than Monday, September 30. While the meeting is open to public attendance, the Board will determine procedures for public participation. Requests for reasonable accommodation that are made after 12 p.m. on September 30, 2019 may not be possible to fulfill.

For further information about the meeting, please contact Dr. Sara Klucking, Designated Federal Officer for the Board, Office of the U.S. Global AIDS Coordinator and Health Diplomacy at KluckingSR@state.gov.

Sara R. Klucking,
Acting Director for Research and Science.

[FR Doc. 2019-20575 Filed 9-23-19; 8:45 am]

BILLING CODE 4710-10-P